DEPARTMENT OF THE INTERIOR

National Park Service

[NPS-WASO-NAGPRA-19768; PPWOCRADN0-PCU00RP14.R50000]

Notice of Inventory Completion: Department of Anthropology at Indiana University, Bloomington, IN

AGENCY: National Park Service, Interior.

ACTION: Notice.

SUMMARY: The Department of Anthropology at Indiana University has completed an inventory of human remains in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Indiana University NAGPRA Office. If no additional requestors come forward, transfer of control of the human remains to the Indian tribes or Native Hawaiian organizations stated in this notice may proceed.

DATES: Representatives of any Indian tribe or Native Hawaiian organization not identified in this notice that wish to request transfer of control of these human remains should submit a written request with information in support of the request to the Indiana University NAGPRA Office at the address in this notice by February 8, 2016.

ADDRESSES: Dr. Jayne-Leigh Thomas, NAGPRA Director, Indiana University, NAGPRA Office, Student Building 318, 701 E. Kirkwood Avenue, Bloomington, Indiana 47405, telephone (812) 856-5315, email thomajay@indiana.edu.

SUPPLEMENTARY INFORMATION: Notice is here given in accordance with the Native American Graves Protection and Repatriation Act (NAGPRA), 25 U.S.C. 3003, of the completion of an inventory of human remains under the control of the Department of Anthropology at Indiana University, Bloomington, IN. The human remains were removed from near Anacortes, WA.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by Indiana University professional staff in consultation with representatives of the Lummi Nation of the Lummi Reservation, Muckleshoot Indian Tribe, Nooksack Indian Tribe, Samish Indian Nation, Sauk-Suiattle Indian Tribe, Snoqualmie Indian Tribe, Stillaguamish Tribe of Indians of Washington, Suquamish Indian Tribe of the Port Madison Reservation, Swinomish Indians of the Swinomish Reservation of Washington, the Tulalip Tribes of Washington, and the Upper Skagit Tribe (hereafter referred to as `The Tribes'.)

History and Description of the Remains

On an unknown date, human remains representing, at minimum, 1 individual were removed from an unknown location near Anacortes, Washington. This collection was transferred to Indiana University from the University of Chicago during the 1950s. The boxes are recorded as having been previously from the University of Washington; however efforts in collaboration with NAGPRA personnel at the University of Washington have failed to locate additional information regarding the collection's presence at the University of Washington and its subsequent transfer to the University of Chicago. No known individuals were identified. No associated funerary objects are present.

Determinations Made by Indiana University

Officials of Indiana University have determined that:

• Pursuant to 25 U.S.C. 3001(9), the human remains described in this notice are Native American based on osteological evidence and collection history.

• Pursuant to 25 U.S.C. 3001(9), the human remains described in this notice represent the physical remains of 1 individuals of Native American ancestry.

• Pursuant to 25 U.S.C. 3001(2), a relationship of shared group identity cannot be reasonably traced between the Native American human remains and any present-day Indian tribe.

• According to final judgments of the Indian Claims Commission or the Court of Federal Claims, the land from which the Native American human remains removed is the aboriginal land of The Tribes.

• On January 22, 1855, the Point Elliot Treaty was signed by representatives from The Tribes. The Point Elliot Treaty established an agreement between the United States Government and The Tribes for lands in western Washington. The lands around Anacortes, WA, from which the Native American human remains were removed were a part of the aboriginal lands ceded by the Point Elliot Treaty.

• Pursuant to 43 CFR 10.11(c)(1), the disposition of the human remains may be to The Tribes.

Additional Requestors and Disposition

Representatives of any Indian tribe or Native Hawaiian organization not identified in this notice that wish to request transfer of control of these human remains should submit a written request with information in support of the request to Dr. Jayne-Leigh Thomas, NAGPRA Director, Indiana University, NAGPRA Office, Student Building 318, 701 E. Kirkwood Avenue, Bloomington, IN 47405, telephone (812) 856-5315, email thomajay@indiana.edu, by February 8, 2016. After that date, if no additional requestors have come forward, transfer of control of the human remains to The Tribes may proceed.

Indiana University is responsible for notifying The Tribes that this notice has been published.

Dated: November 12, 2015.
Amberleigh Malone,
Acting Manager, National NAGPRA Program.

[FR Doc. 2016-00063 Filed 1-6-16; 8:45 am]

BILLING CODE 4312-50-P